NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 4, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant Lynn Reed, National Science Foundation, Arlington Virginia

Permit Application: 2014-023

Activity for Which Permit Is Requested

ASPA; The applicant wishes to enter the Historic Hut ASPAs (ASPA 158, Hut Point, ASPA 157 Cape Royds Hut and ASPA 155 Cape Evans Hut) to make audio and video recordings, make sketches, and take photographs for (Science, Technology, Engineering, and Mathematics) STEM educational purposes. The gathered materials would be used to create lesson plans about Antarctic Exploration that focus on science, technology, engineering or mathematics aspects of the historic Antarctic expeditions. The lesson plans would be appropriate for students in grades 6-12 and would be made available on-line to STEM teachers and the general public.

Location

ASPA 155 Cape Evans

ASPA 157 Backdoor Bay, Cape Royds

ASPA 158 Hut Point

Dates

November 30, 2013 to January 31, 2014.

Nadene G. Kennedy,
Polar Coordination Specialist, Division of Polar Programs.

[FR Doc. 2013-26343 Filed 11-1-13; 8:45 am]

BILLING CODE 7555-01-P